DEPARTMENT OF ENERGY

Federal Energy Regulatory Commission

[Docket No. OA97-25-006, et al.]

Northern States Power Company, et al.; Electric Rate and Corporate Regulation Filings

February 24, 2000.

Take notice that the following filings have been made with the Commission:

1. Northern States Power Company (Minnesota) and Northern States Power Company (Wisconsin)

[Docket Nos. OA97-25-006, OA97-606-006, ER98-1890-007, ER98-2060-007 and EL98-40-006]

Take notice that on February 22, 2000, Northern States Power Company (Minnesota) and Northern States Power Company (Wisconsin) (NSP) submitted the refund report required by the Commission's December 20, 1999 letter order approving the Offer of Settlement filed on March 23, 1999, in the above-captioned dockets. (89 FERC ¶ 61,200 (1999).

NSP states that a copy of the Refund Report has been served on all parties on the official Commission service list for these proceedings, on all affected transmission service customers and on affected state commissions.

Comment date: March 14, 2000, in accordance with Standard Paragraph E at the end of this notice.

2. Western Area Power Administration

[Docket No. EF00-5071-000]

Take notice that on February 18, 2000, the Deputy Secretary of the Department of Energy, by Rate Order No. WAPA-87, did confirm and approve on an interim basis, to be effective on April 1, 2000, the Western Area Power Administration's firm power rate formula extension for the Provo River Project.

The extension of the rate formula will be in effect on an interim basis pending the Federal Energy Regulatory Commission's (Commission) approval of it or a substitute rate formula on a final basis. If approved, the final rate formula will be effective until March 31, 2005.

Comment date: March 17, 2000, in accordance with Standard Paragraph E at the end of this notice.

3. New Century Services, Inc.

[Docket No. ER00-938-000]

Take notice that on February 22, 2000, New Century Services, Inc. (NCS), on behalf of Public Service Company of Colorado (PSCo), tendered for filing the following amended and restated agreements under Public Service's Rate Schedule for Market-Based Power Sales (Public Service FERC Electric Tariff, Original Volume No. 6), namely, four separate transaction agreements for specific sales by PSCo to Municipal Energy Agency of Nebraska (MEAN) of capacity and associated energy for durations of longer than one year.

Comment date: March 14, 2000, in accordance with Standard Paragraph E at the end of this notice.

4. PSI Energy, Inc.

[Docket No. ER00-1366-000]

Take notice that on February 18, 2000, PSI Energy, Inc. (PSI), tendered for filing the Transmission and Local Facilities (T&LF) Agreement Calendar Year 1998 Reconciliation between PSI and Wabash Valley Power Association, Inc. (WVPA), and between PSI and Indiana Municipal Power Agency (IMPA). The T&LF Agreement has been designated as PSI's Rate Schedule FERC No. 253.

Copies of the filing were served on Wabash Valley Power Association, Inc., the Indiana Municipal Power Agency and the Indiana Utility Regulatory Commission.

Comment date: March 14, 2000, in accordance with Standard Paragraph E at the end of this notice.

5. Pennsylvania Electric Company

[Docket No. ER00-1650-000]

Take notice that on February 22, 2000, Pennsylvania Electric Company (Penelec), tendered for filing an amendment to the Interconnection Agreement, dated as of July 22, 1999, by and between Cleveland Electric Illuminating Company (CEI) and Penelec. The amendment consists of a Reactive Power Compensation Agreement.

Copies of the filing were served upon CEI and regulators in the Commonwealth of Pennsylvania.

Comment date: March 14, 2000, in accordance with Standard Paragraph E at the end of this notice.

6. New Century Services, Inc.

[Docket No. ER00-1656-000]

Take notice that on February 18, 2000, New Century Services, Inc., on behalf of Cheyenne Light, Fuel and Power Company, Public Service Company of Colorado, and Southwestern Public Service Company (collectively Companies), tendered for filing a Service Agreement under their Joint Open Access Transmission Service Tariff for Non-Firm Point-to-Point Transmission Service between the Companies and British Columbia Power Exchange Corporation (Powerex).

Comment date: March 10, 2000, in accordance with Standard Paragraph E at the end of this notice.

7. The Montana Power Company

[Docket No. ER00-1657-000]

Take notice that on February 22, 2000, The Montana Power Company (Montana) tendered for filing with the Federal Energy Regulatory Commission pursuant to 18 CFR 35.13 the executed Firm and Non-Firm Point-to-Point Service Agreements with, Sierra Pacific Energy Company and Amoco Energy Trading Corporation, under Montana's FERC Electric Tariff, Fourth Revised Volume No. 5 (Open Access Transmission Tariff).

A copy of the filing was served upon Sierra Pacific Energy Company Amoco Energy Trading Corporation.

Comment date: March 14, 2000, in accordance with Standard Paragraph E at the end of this notice.

8. New England Power Company

[Docket No. ER00-1658-000]

Take notice that on February 22, 2000, New England Power Company (NEP), tendered for filing a Firm Local Generation Delivery Service Agreement with D. Hobbs Contracting, Inc.

Comment date: March 14, 2000, in accordance with Standard Paragraph E at the end of this notice.

9. New England Power Pool

[Docket No. ER00-1659-000]

Take notice that on February 22, 2000, the New England Power Pool (NEPOOL) Participants Committee submitted the Fifty-First Agreement Amending the Restated New England Power Pool Agreement (the Fifty-First Agreement).

The Fifty-First Agreement seeks to extend the current congestion cost allocation methodology until the earlier of June 1, 2000, or the beginning of the first calendar month sixty (60) days after the filing of an amendment to the Restated NEPOOL Agreement and/or NEPOOL Tariff.

The NEPOOL Participants Committee states that copies of these materials were sent to the New England state governors and regulatory commissions and the NEPOOL Participants.

Comment date: March 14, 2000, in accordance with Standard Paragraph E at the end of this notice.

10. Southwestern Electric Power Company

[Docket No. ER00-1663-000]

Take notice that on February 18, 2000 Southwestern Electric Power Company (SWEPCO), tendered for filing actuarial reports in support of the amounts to be collected in SWEPCO's 1999 actual and 2000 projected formula rates for post-employment benefits other than pensions as directed by the Statement of Financial Accounting Standard No. 106 (SFAS 106), issued by the Financial Accounting Standards Board, and the collection in such formula rates of other post-employment benefits as directed by SFAS 112.

SWEPCO has served copies of the transmittal letter on all of its formula rate customers, the Arkansas Public Service Commission, the Louisiana Public Service Commission and the Public Utility Commission of Texas. SWEPCO will provide copies of the actuarial reports to any customer or state commission upon request.

Comment date: March 10, 2000, in accordance with Standard Paragraph E at the end of this notice.

11. Southwest Power Pool, Inc.

[Docket No. ER00-1672-000]

Take notice that on February 18, 2000, Southwest Power Pool, Inc. (SPP), tendered for filing a correction to a service agreement previously filed with the Commission in Docket No. ER00-834. SPP seeks an effective date of January 1, 2000, for the corrected agreements.

Comment date: March 10, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-5022 Filed 3-1-00; 8:45 am]

BILLING CODE 6717-01-P